DEPARTMENT OF THE INTERIOR

National Park Service

Feasibility Study, Enhanced Ferry Service, Golden Gate National Recreation Area, San Francisco Bay Area, California; Notice of Interviews of Current Passenger Ferry Operators

The National Park Service (NPS), Golden Gate National Recreation Area (GGNRA), is currently studying increased commercial marine vessel service (including new ferry routes) to various sites within and contiguous to GGNRA. A team of transportation consultants has been retained to advise GGNRA on the feasibility of enhanced ferry service. The consultants expect to interview park users, tourism industry leaders, and residents of northern California to help determine the feasibility of these new services. As a part of this study, the consultants and NPS also expect to interview and obtain comment from commercial vessel operators to understand the opportunities and the constraints associated with these new services. Personal interviews will be conducted in the San Francisco Metropolitan area or by telephone at vessel operator option. Should any firm with applicable maritime experience (defined as follows: currently operating vessels with U.S. Coast Guard approval to transport more than 100 passengers, and currently providing, or provided within the last 30 days, regularly scheduled commuter and/or scheduled recreational water transportation services) desire to participate in the commercial vessel operator interview phase of the study, the appropriate company official must contact the National Park Service, Maria Banuelos Connell, at 415 561-4944, no later than July 14,2001.

Dated: June 1, 2001.
Brian O'Neill,
General Superintendent, Golden Gate National Recreation Area.

[FR Doc. 01-15560 Filed 6-20-01; 8:45 am]

BILLING CODE 4310-70-P